DEPARTMENT OF JUSTICE

[OMB Number 1121-0102]

Agency Information Collection Activities; Proposed eCollection eComments Requested; Extension of a Currently Approved Collection: National Prisoner Statistics Program

AGENCY: Bureau of Justice Statistics, Office of Justice Programs, Department of Justice

ACTION: 60-Day notice.

SUMMARY: The Bureau of Justice Statistics, Office of Justice Programs, Department of Justice (DOJ) will be submitting the following information collection request to the Office of Management and Budget (OMB) for review and approval in accordance with the Paperwork Reduction Act of 1995.

DATES: Comments are encouraged and will be accepted for 60 days until November 18, 2022.

FOR FURTHER INFORMATION CONTACT: If you have additional comments especially on the estimated public burden or associated response time, suggestions, or need a copy of the proposed information collection instrument with instructions or additional information, please contact E. Ann Carson, Statistician, Bureau of Justice Statistics, 810 Seventh Street NW, Washington, DC 20531 (email: elizabeth.carson@usdoj.gov; telephone: 202-616-3496).

SUPPLEMENTARY INFORMATION: Written comments and suggestions from the public and affected agencies concerning the proposed collection of information are encouraged. Your comments should address one or more of the following four points:

Evaluate whether the proposed collection of information is necessary for the proper performance of the functions of the Bureau of Justice Statistics, including whether the information will have practical utility;

Evaluate the accuracy of the agency's estimate of the burden of the proposed collection of information, including the validity of the methodology and assumptions used;

Evaluate whether and if so how the quality, utility, and clarity of the information to be collected can be enhanced; and

Minimize the burden of the collection of information on those who are to respond, including through the use of appropriate automated, electronic, mechanical, or other technological collection techniques or other forms of information technology, e.g., permitting electronic submission of responses.

Overview of This Information Collection

Type of Information Collection: Extension of a Currently Approved Collection.

The Title of the Form/Collection: National Prisoner Statistics program. The collection includes the following parts: Summary of Sentenced Population Movement, Prison Population Report—U.S. Territories.

The agency form number, if any, and the applicable component of the Department sponsoring the collection: Form numbers for the questionnaire are NPS-1B (Summary of Sentenced Population Movement) and NPS-1B(T) (Prisoner Population Report—U.S. Territories). The applicable component within the Department of Justice is the Bureau of Justice Statistics, in the Office of Justice Programs.

Affected public who will be asked or required to respond, as well as a brief abstract: For the NPS-1B form, 51 central reporters (one from each state and the Federal Bureau of Prisons) responsible for keeping records on inmates will be asked to provide information for the following categories:

(a) As of December 31, the number of male and female inmates within their custody and under their jurisdiction with maximum sentences of more than one year, one year or less; and unsentenced inmates;

(b) The number of inmates housed in privately operated facilities, county or other local authority correctional facilities, or in other state or Federal facilities on December 31;

(c) Prison admission information in the calendar year for the following categories: new court commitments, parole violators, other conditional release violators returned, transfers from other jurisdictions, AWOLs and escapees returned, and returns from appeal and bond;

(d) Prison release information in the calendar year for the following categories: expirations of sentence, commutations, other conditional releases, probations, supervised mandatory releases, paroles, other conditional releases, deaths by cause, AWOLs, escapes, transfers to other jurisdictions, and releases to appeal or bond;

(e) Number of inmates under jurisdiction on December 31 by race and Hispanic origin;

(f) Number of inmates under physical custody on December 31 classified as non-citizens; U.S. citizens; and unsentenced inmates;

(g) Number of inmates under physical custody on December 31 who are citizens of the U.S. with maximum sentences of more than one year, one year or less; and unsentenced inmates;

(h) The source of U.S. citizenship data;

(i) Testing of incoming inmates for HIV; and HIV infection and AIDS cases on December 31; and

(j) The aggregated rated, operational, and/or design capacities, by sex, of the state/BOP's correctional facilities at year-end.

For the NPS-1B(T) form, five central reporters from the U.S. Territories and Commonwealths of Guam, Puerto Rico, the Northern Mariana Islands, the Virgin Islands, and American Samoa will be asked to provide information for the following categories for the calendar year just ended, and, if available, for the previous calendar year:

(a) As of December 31, the number of male and female inmates within their custody and under their jurisdiction with maximum sentences of more than one year, one year or less; and unsentenced inmates; and an assessment of the completeness of these counts (complete, partial, or estimated)

(b) The number of inmates under jurisdiction on December 31 but in the custody of facilities operated by other jurisdictions' authorities solely to reduce prison overcrowding;

(c) Number of inmates under jurisdiction on December 31 by race and Hispanic origin;

(d) The aggregated rated, operational, and/or design capacities, by sex, of the territory's/Commonwealth's correctional facilities at year-end.

The Bureau of Justice Statistics uses this information in published reports and for the U.S. Congress, Executive Office of the President, practitioners, researchers, students, the media, and others interested in criminal justice statistics.

An estimate of the total number of respondents and the amount of time estimated for an average respondent to respond: Data collection conducted in 2023, 2024, and 2025 (collecting prison data from 2022, 2023, and 2024, respectively) will require each of the 51 respondents to spend an average of 6.5 total hours to respond to the NPS-1B form. 5 respondents, each taking an average of 2 hours to respond to the NPS-1B(T) form. The burden estimates are based on feedback from respondents, and the burden remains the same as the previous clearance.

An estimate of the total public burden (in hours) associated with the collection: There is an estimated 1,025 total burden hours associated with this collection for the three years of data collection, or approximately 341.5 hours for each year.

If additional information is required contact: Robert Houser, Department Clearance Officer, Policy and Planning Staff, Justice Management Division, United States Department of Justice, Two Constitution Square, 145 N Street NE, 3E.405A, Washington, DC 20530.

Dated: September 13, 2022.
Robert Houser,
Department Clearance Officer for PRA, U.S. Department of Justice.

[FR Doc. 2022-20159 Filed 9-16-22; 8:45 am]

BILLING CODE 4410-18-P